DEPARTMENT OF TRANSPORTATION

Federal Highway Administration

[Docket No. FHWA-2011-0122]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We published a Federal Register Notice with a 60-day public comment period on this information collection on December 29, 2010. We are required to publish this notice in the Federal Register by the Paperwork Reduction Act of 1995.

DATES: Please submit comments by April 11, 2011.

ADDRESSES: You may send comments within 30 days to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2011-0122.

FOR FURTHER INFORMATION CONTACT: Kevin Douglas, 202-366-2601, Office of Human Environment, Federal Highway Administration, Department of Transportation, 1200 New Jersey Avenue, SE., Washington, DC 20590, Monday through Friday, except Federal holidays.

SUPPLEMENTARY INFORMATION: Title: Surface Transportation Environment and Planning (STEP) Cooperative Research Program.

Background: Section 5207 of the Safe, Accountable, Flexible, Efficient Transportation Equity Act: A Legacy for Users of 2005 (SAFETEA-LU) established a new cooperative research program for environment and planning research in section 507 of Title 23, United States Code, Highways (23 U.S.C. 507). The general objective of the STEP is to improve understanding of the complex relationship between surface transportation, planning, and the environment. The FHWA anticipates that the STEP program will provide resources for national research on issues related to planning, environment and realty. These resources are likely to be included in future surface transportation legislation. The research program established under this section shall ensure that stakeholders are involved in the governance of the program, at the executive, overall program, and technical levels, through the use of expert panels and committees. FHWA will be collecting feedback via a STEP Web site on the 18 emphasis areas. This information will be used to identify potential research for an annual Research Plan.

The number of stakeholders with an interest in environment and planning research includes three groups:

I—Federal Agencies and Tribal Governments

II—State and Local Governments

III—Nongovernmental Transportation and Environmental Stakeholders

Respondents: An estimated 270 participants annually for a total of approximately 810 participants during the three-year period while the OMB clearance is in effect.

Frequency: Annually.

Estimated Average Burden per Response: 30 minutes each year. Due to the specialized nature of the 18 emphasis areas, most commenters will provide input in only one area.

Estimated Total Annual Burden Hours: Approximately 135 hours annually (405 hours total for the three-year period).

Authority: The Paperwork Reduction Act of 1995; 44 U.S.C. Chapter 35, as amended; and 49 CFR 1.48.

Issued on: March 2, 2011.
Juli Huynh,
Chief, Management Programs and Analysis Division.

[FR Doc. 2011-5425 Filed 3-9-11; 8:45 am]

BILLING CODE 4910-22-P